DEPARTMENT OF LABOR

Bureau of Labor Statistics

Comment Request

ACTION: Notice of solicitation of comments.

SUMMARY: The Department of Labor through the Bureau of Labor Statistics (BLS) is responsible for the development and publication of occupational employment projections and related career information, including the education and training requirements for detailed occupations. The BLS issued a Federal Register notice on November 18, 2008 (Volume 73, Number 223), requesting comments on a proposed education and training system. On May 26, 2009, a notice was issued on the BLS Web site announcing that the BLS would continue to refine the system to classify occupations into education and training categories for use in 2010, and provide an experimental dataset on the new system. The new education and training system has been developed and the experimental dataset is ready for users to provide feedback.

DATES: Written comments must be submitted to the office listed in the ADDRESSES section of this notice on or before November 30, 2010.

ADDRESSES: Send comments to Teri Morisi, Office of Occupational Statistics and Employment Projections, Bureau of Labor Statistics, Room 2135, 2 Massachusetts Avenue, NE., Washington, DC 20212 or by e-mail to: educfeedback@bls.gov.

FOR FURTHER INFORMATION CONTACT: Teri Morisi, Office of Occupational Statistics and Employment Projections, Bureau of Labor Statistics, telephone number 202-691-6501, or by e-mail at educfeedback@bls.gov.

SUPPLEMENTARY INFORMATION:

I. Background

The Department of Labor through the Bureau of Labor Statistics (BLS) is responsible for the development and publication of occupational employment projections and related career information, including the education and training requirements for detailed occupations. The BLS issued a Federal Register notice on November 18, 2008 (Volume 73, Number 223), requesting comments on a proposed education and training system. On May 26, 2009, a notice was issued on the BLS Web site announcing that the BLS would continue to refine the system to classify occupations into education and training categories for use in 2010, and provide an experimental dataset on the new system. The new education and training system has been developed and the experimental dataset is ready for users to provide feedback.

II. Current Action

The objective of the new system is to present a more complete picture of the education and training needed for entry into a given occupation and to become competent at performing the occupation. Its major features are:

• Typical Entry-Level Education. An education level assignment that represents the typical entry-level requirement for each occupation independent of training.

• Previous Work Experience in a Related Occupation. An assignment to indicate if previous work experience in a related occupation is commonly deemed necessary by employers for entry into the occupation, or is a commonly accepted substitute for formal types of training.

• State Licensing. Information on whether one or more States regulate the occupation through licensure.

• Typical On-the-Job Training Needed to Attain Competency in the Occupation. An assignment for the typical on-the-job training needed to attain competency in the occupation.

The typical entry level education, previous work experience, and State licensing categories represent “pre-employment” qualifications, and the typical training needed to attain competency in the occupation is attained once the worker is employed. The new system is depicted in Table 1.

Table 1—Proposed Education and Training Classification System Layout
Pre-employment: Typical entry level education | Pre-employment: Previous work experience in a related occupation | Pre-employment: State licensing | During employment: Typical on-the-job training needed to attain competency in the occupation
Doctoral or professional degree | Less than 1 year | Yes or No | Apprenticeship.
Master's degree | 1-5 years |  | Internship/residency.
Bachelor's degree | More than 5 years |  | Short-term on-the-job training.
Associate's degree | None |  | Moderate-term on-the-job training.
Postsecondary non-degree award |  |  | Long-term on-the-job training.
Some college, no degree |  |  | None.
High school diploma or equivalent
Less than high school

The proposed system differs from the current system in a number of ways. The current system assigns occupations to a single education or training category that describes the most significant source of education or training. The proposed system breaks this out into three dimensions: Entry level education, previous work experience, and typical training. A new dimension is added that provides information on State licensing. In addition, the term “most significant source of education or training” as used in the current system has been replaced in favor of clearly defining the categories as needed either to enter the occupation (typical education level, previous work experience, and State licensing) or to attain competency once employed in the occupation (typical on-the-job training).

With the proposed system, the education level assignment will be determined based on educational attainment data from the American Community Survey (ACS); data on occupational skills, knowledge, work activities, and education and job training from the Occupational Information Network (O*NET); and BLS analysts' analytical judgment. ACS data aggregated by age can be a useful resource; in particular, ACS data on educational attainment for persons aged 18-29 can serve as a guide for assigning an entry-level educational attainment category; for occupations that have high levels of educational requirements, older cohorts may be more appropriate to examine. O*NET also serves as a source of information to assign occupations to work experience and typical training categories. BLS analysts also obtain information for assignments from employers, workers in the occupation, training experts, and representatives of professional and trade associations and unions.

The experimental dataset contains 106 occupations selected from all major groups in the 2000 Standard Occupational Classification (SOC) system, and has representation from all assignments within the education and training categories. Access the experimental dataset and definitions for the education and training classifications at the following Internet address: http://www.bls.gov/emp/ep_propedtrain.htm.

III. Desired Focus of Comments

Comments and recommendations are requested from the public on the following aspects of the proposed education and training system:

• The clarity of the new system of assigning education, previous work experience, State licensing, and on-the-job training categories to each occupation.

• The clarity of the proposed education categories.

• The suitability of the new system to meet the needs of customers.

• The understanding of how the new system is to be used.

• The usefulness of the new integrated system compared to the old ones.

Signed at Washington, DC, this 24th day of September 2010.
Kimberley Hill,
Chief, Division of Management Systems, Bureau of Labor Statistics.

[FR Doc. 2010-24430 Filed 9-28-10; 8:45 am]

BILLING CODE 4510-24-P